ARCHITECTURAL AND TRANSPORTATION BARRIERS COMPLIANCE BOARD

Notice of Meeting

AGENCY: Architectural and Transportation Barriers Compliance Board.

ACTION: Notice of meeting.

SUMMARY: The Architectural and Transportation Barriers Compliance Board (Access Board) has scheduled its regular business meetings to take place in Washington, DC., Tuesday and Wednesday, November 13-14, 2007, at the times and location noted below.

DATES: The schedule of events is as follows:

Tuesday, November 13, 2007

10 a.m.-5 p.m. Airport Ad Hoc Committee.

Wednesday, November 14, 2007

10 a.m.-11 a.m. Committee of the Whole: 2008 Out-of-Town Event.

11 a.m.-2:30 p.m. Rulemaking meeting (Closed Session).

3 p.m.-4 p.m. Board meeting.

ADDRESSES: All meetings will be held at The Madison Hotel, 1177 15th Street, NW., Washington, DC, 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the June and September 2007 draft Board Meeting Minutes.

• ADA/ABA Accessibility Guidelines; Federal Agency Updates.

• Airport Ad Hoc Committee Report.

• Rulemaking Update.

• Election Assistance Commission Activities Report.

• Technical Programs Committee Report.

• Committee of the Whole Report: 2008 Out-of-Town Meeting.

• Executive Committee Report.

All meetings are accessible to persons with disabilities. An assistive listening system, computer assisted real-time transcription (CART), and sign language interpreters will be available at the Board meetings. Persons attending Board meetings are requested to refrain from using perfume, cologne, and other fragrances for the comfort of other participants.

Lawrence W. Roffee,
Executive Director.

[FR Doc. E7-21343 Filed 10-30-07; 8:45 am]

BILLING CODE 8150-01-P